DEPARTMENT OF HEALTH AND HUMAN SERVICES

Centers for Disease Control and Prevention

[Program Announcement 01036]

Grants for Education Programs in Occupational Safety and Health: Occupational Injury Prevention Research Training Programs; Notice of Availability of Funds for Fiscal Year 2001

A. Purpose

The Centers for Disease Control and Prevention (CDC) announces the availability of fiscal year (FY) 2001 funds for institutional training grants in occupational safety and health. This program addresses the “Healthy People 2010” focus area of Occupational Safety and Health. The 2000 Institute of Medicine report titled “Safe Work in the 21st Century” recommended that NIOSH establish a new training initiative focused on the prevention of occupational injuries. The purpose of this program is to train occupational injury prevention researchers and educators. For the purposes of this announcement, occupational injury prevention is defined to encompass the fields of: Occupational safety engineering and science; and occupational injury epidemiology. See Section D, “Program Requirements”, Item 6 for a further description of the proposed field of study.

B. Eligible Applicants

Applications for institutional training grants may be submitted by public and private nonprofit and for-profit organizations and by governments and their agencies; that is, universities, colleges, research institutions, hospitals, other public and private nonprofit and for-profit organizations, State and local governments or their bona fide agents, including the District of Columbia, the Commonwealth of Puerto Rico, the Virgin Islands, the Commonwealth of the Northern Mariana Islands, American Samoa, Guam, federally recognized Indian tribal governments, Indian tribes, Indian tribal organizations, the Federated States of Micronesia, the Republic of the Marshall Islands, and the Republic of Palau. Applicants must have: (1) Demonstrated competency in the occupational safety and health field; and (2) an established graduate-level, academic degree program in the occupational safety and health field.

For existing NIOSH Education and Research Centers (ERC) or Training Project Grants (TPG) that request supplemental funding, it is imperative to include the current CDC/NIOSH Training Grant number, so the application may be processed as a supplement to the existing grant.

Note: Public Law 104-65 states that an organization described in section 501(c)(4) of the Internal Revenue Code of 1986 that engages in lobbying activities is not eligible to receive Federal funds constituting an award, grant, cooperative agreement, contract, loan, or any other form.

C. Availability of Funds

Approximately $1,000,000 is expected to be available in FY 2001 to fund eight to ten awards. It is expected that the average award will be $ 100,000, ranging from $50,000 to $175,000. It is expected that the awards will begin on July 1, 2001, and will be made for a 12-month budget period within a maximum project period of up to five years. Funding estimates may change.

For existing ERC and TPG grantees that apply under this announcement and also have existing NIOSH-funded occupational safety and/or occupational injury epidemiology academic programs, a clear description and justification must be provided to explain how the proposed program differs from, or substantially enhances, the existing program. If the application is approved and recommended for funding, in some instances it may be necessary to replace the existing program funding with funding available under this announcement.

Continuation awards within an approved project period will be made on the basis of satisfactory progress as evidenced by required reports and the availability of funds.

D. Program Requirements

The following are intended to serve as applicant requirements:

1. Grantees shall establish research training programs that encompass at least one of the following two components: (a) Occupational safety engineering and science; and (b) occupational injury epidemiology. Applications that propose programs encompassing both components are encouraged. Programs may be at the Masters and Doctoral levels. Doctoral programs will be given higher priority to address the need for researchers to conduct research and provide academic faculty in the occupational injury prevention field. Curricula and research training plans must be structured and clearly identified for each level of training as well as the number of full-time and part-time students proposed. Programs must have a minimum of three full-time or full-time equivalent trainees. At least 50 per cent of the proposed budget must be allocated to the support of allowable trainee expenses. It is expected that the percentage of the proposed budget allocated to trainee expenses will increase during each year of the project period.

2. Applicants shall address the need for preparing occupational injury prevention researchers in this field. Justification should be provided in support of the degree levels proposed for financial assistance.

3. Programs should train occupational injury prevention researchers on the basis of the public health model as applied to occupational injury prevention:

a. Identify and prioritize problems.

b. Quantify and prioritize risk factors.

c. Identify existing or develop new strategies to prevent injuries.

d. Implement and evaluate the most effective injury control measures.

e. Monitor the results of intervention efforts.

The curriculum should include, as a minimum, in-depth training in the following topic areas:

(1) Within occupational safety engineering and science programs—computer applications, data systems/injury surveillance, engineering controls, injury epidemiology, ergonomics/biomechanics, exposure assessment, personal protective equipment, research/experimental design, statistics, and system safety.

(2) Within occupational injury epidemiology programs—injury surveillance, survey methods, exposure assessment, research/experimental design, injury control, intervention evaluation, occupational safety and ergonomics.

4. A plan should be provided to incorporate research experience (as principal or co-investigators) in original occupational injury prevention research for students at all degree levels. The plan should also document ongoing funded research and faculty publications and how the applicant intends to expand and strengthen existing research efforts. The plan should also include items such as strategies for obtaining student and faculty funding.

5. A plan shall be provided outlining internal collaborative relationships between Departments, addressing institutional roles, goals and objectives, proposed curriculum, faculty and policies and administrative measures to establish appropriate coordination. Programs are also strongly encouraged to incorporate collaborative relationships with external agencies and institutions that can serve as resources for the program, to coordinate research with public and private groups, and to provide sources of data for research. Some examples of potential collaborating groups include the following:

a. The disciplines of engineering, epidemiology, safety, and the medical, clinical and social sciences.

b. Industry, labor, and the public sector, including public and private worker compensation programs.

6. The Program Director shall be a full-time faculty member and have education and experience in training occupational injury prevention researchers. The Program Director should have currently funded research in occupational safety and health and should be responsible for the coordination of the program.

7. Key faculty and research advisors should be full-time faculty with documented expertise and education in their appropriate fields. Qualifications should include having funded research in the field of occupational safety and health. Research advisors should have recent research experience in occupational injury prevention.

8. The applicant shall include a plan for student recruitment, including entrance requirements.

9. The applicant shall include a plan for evaluation of the program, including placement of graduates, tracking of graduates, and contributions that graduates are making in the occupational injury prevention field.

10. An Advisory Committee shall be established representing stakeholders for occupational injury prevention, including, labor, industry, and government.

E. Application Content

Applications will be evaluated on the basis of the Program Requirements, Other Requirements, and Evaluation Criteria sections listed, so it is important to follow them in laying out the program plan. The narrative should be no more than 15 pages. Prepare the application single-sided and single-spaced, staying within the margin limitations indicated on the form and continuation pages. The print must be clear and legible. Use standard size, black letters that can be clearly copied. Do not use photo reduction. Prepare all graphs, diagrams, tables, and charts in black ink. The application must contain only material that can be photocopied. Do not include course catalogue and brochures. When additional space is needed to complete any of the items, use plain white paper (8 ½ × 11 inches), leave ½ inch margin on each side, identify each item by its title, and type the name of the program director and the grant number in the upper right corner of each page. All pages, including Appendices should be numbered consecutively at least ½ inch from the bottom edge.

The applicant shall provide documentation of an established graduate-level academic degree program in the occupational safety and health field at the applicant institution.

Note: Please consult the detailed Recommended Outline for Preparation of Competing New/Supplemental Training Grant Applications for Occupational Injury Prevention Research Training Programs provided in the application kit. (CDC 2.145 A).

F. Submission and Deadline

Application

Submit the original and three copies of CDC 2.145 A (OMB Number 0920-00261). Forms are in the application kit. On or before May 1, 2001, submit the application to the Grants Management Specialist identified in section J of this announcement, “Where to Obtain Additional Information”. Please be reminded that for existing NIOSH ERCs or TPGs that request supplemental funding, it is imperative to include the present CDC/NIOSH Training Grant number, so it may be processed as a supplement.

Deadline: Applications should be considered as meeting the deadline if they are either:

(a) Received on or before the deadline date; or (b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC:

1. Evidence of a plan to satisfy the need for training in the area outlined by the application, including projected enrollment, recruitment and job opportunities. Indicators of need may include measures utilized by the Program such as previous record of training and placement of graduates. Indicate the potential contribution of the project toward meeting the need for this specialized training.

2. Extent to which arrangements for day-to-day management, allocation of funds and cooperative arrangements are designed to effectively achieve the program requirements.

3. Evidence of a plan describing the academic and research training the program proposes. This should include goals, elements of the program, research faculty and amount of effort, support faculty, facilities and equipment available and needed, and methods for implementing and evaluating the program.

4. Extent to which curriculum content and design includes formalized training objectives, minimal course content to achieve degree, course descriptions, course sequence, additional related courses open to students, time devoted to lecture, and clinical and research experience addressing the relationship with didactic programs in the educational process.

5. The extent to which the program effort is capable of supporting the number and type of students proposed.

6. Extent to which the program has initiated collaborative relationships with external agencies and institutions to expand and strengthen its research capabilities by providing student and faculty research opportunities.

7. Evidence of previous record of training in occupational injury prevention, including placement of graduates and employment history.

8. The extent to which the applicant documents methods in use or proposed methods for evaluating the effectiveness of the training, including the use of feedback mechanisms from graduates and employers, placement of graduates in research positions, research accomplishments of graduates and reports from consultations and cooperative activities with other universities, professional associations, and other outside agencies.

9. Competence, experience and training of the Program Director, faculty and advisors in relation to the type and scope of research training involved.

10. Degree of institutional commitment to Program goals. An example of institutional commitment to the long-term stability of academic programs is the commitment of tenured or tenure-track faculty positions to each participating academic program.

11. Adequacy of the academic and physical environment in which the training will be conducted, including access to appropriate occupational injury prevention research resources.

12. The extent to which the budget is reasonable, adequately justified, and consistent with the intended use of the grant funds.

13. Evidence of a plan for establishment of an Advisory Committee, including meeting times, roles and responsibilities.

H. Other Requirements

Technical Reporting Requirements

Provide CDC with original plus two copies of:

1. Progress reports (annual and may be incorporated as component of non-competing continuation applications);

2. Financial status report, no more than 90 days after the end of the budget period; and

3. Final financial status report and progress report, no more than 90 days after the end of the project period.

Send all reports to the Grants Management Specialist identified in section J of this announcement, “Where to Obtain Additional Information”.

The following additional requirements are applicable to this program. For a complete description of each, see Attachment I in the application kit.

AR-10—Smoke-Free Workplace Requirements

AR-11—Healthy People 2010

AR-12—Lobbying Restrictions

Data collection initiated under this training grant program has been approved by the Office of Management and Budget under Number 0920-0261. “Training Grants, Application and Regulations—42 CFR Part 86,” Expiration Date 01/31/2004.

I. Authority and Catalog of Federal Domestic Assistance Number

This program is authorized under section 21(a) of the Occupational Safety and Health Act [29 U.S.C. 670 (a)]. Regulations applicable to this Program are in 42 CFR 86, “Grants for Education Programs in Occupational Safety and Health”. The Catalog of Federal Domestic Assistance number is 93.263.

J. Where To Obtain Additional Information

Please refer to Program Announcement 01036 and specify ERC or TPG when you request information. To receive additional written information and to request an application kit, call 1-888-GRANTS4 (1-888-472-6874). You will be asked to leave your name and address and will be instructed to identify the announcement number of interest. You may also obtain Program Announcement 01036 from the CDC home page address on the Internet, http://www.cdc.gov. If you have questions after reviewing the contents of all the documents, business management technical assistance may be obtained from: Sonia Rowell, Grants Management Specialist, Grants Management Branch, Procurement and Grants Office, Announcement 01036, Centers for Disease Control and Prevention (CDC), 2920 Brandywine Road, Room 3000, Atlanta, GA 30341-4146, Telephone: (770) 488-2724, Email address: svp1@cdc.gov

For program technical assistance, contact: John T. Talty, Principal Engineer, Office of Extramural Programs, National Institute for Occupational Safety and Health, Centers for Disease Control and Prevention (CDC), 4676 Columbia Parkway, Mailstop C-7, Cincinnati, OH 45226-1998, Telephone (513) 533-8241, Email address: jtt2@cdc.gov

Dated: March 6, 2001.
Lawrence J. Fine,
Acting Director, National Institute for Occupational Safety and Health, Centers for Disease Control and Prevention (CDC).

[FR Doc. 01-6125 Filed 3-12-01; 8:45 am]

BILLING CODE 4163—19—P